DEPARTMENT OF ENERGY

Federal Energy Regulatory Commission

Combined Notice of Filings #1

Take notice that the Commission received the following electric corporate filings:

Docket Numbers: EC12-14-000.

Applicants: Michigan Electric Transmission Company, LLC.

Description: Section 203 Application of Michigan Electric Transmission Company, LLC regarding City of Zeeland.

Filed Date: 10/21/2011.

Accession Number: 20111021-5182.

Comment Date: 5 p.m. Eastern Time on Monday, November 14, 2011.

Docket Numbers: EC12-15-000.

Applicants: Michigan Electric Transmission Company, LLC.

Description: 203 Application of Michigan Electric Transmission Company, LLC regarding Consumers.

Filed Date: 10/21/2011.

Accession Number: 20111021-5186.

Comment Date: 5 p.m. Eastern Time on Monday, November 14, 2011.

Take notice that the Commission received the following exempt wholesale generator filings:

Docket Numbers: EG11-131-000.

Applicants: Richland-Stryker Generation LLC.

Description: Supplement to Notice of Self-Certification of Exempt Wholesale Generator Status of Richland-Stryker Generation LLC.

Filed Date: 10/18/2011.

Accession Number: 20111018-5034.

Comment Date: 5 p.m. Eastern Time on Tuesday, November 08, 2011.

Take notice that the Commission received the following electric rate filings:

Docket Numbers: ER11-1935-001.

Applicants: Madison Paper Industries.

Description: Notice of Non-Material Change in Status of Madison Paper Industries.

Filed Date: 10/21/2011.

Accession Number: 20111021-5146.

Comment Date: 5 p.m. Eastern Time on Monday, November 14, 2011.

Docket Numbers: ER11-3420-002.

Applicants: Gridway Energy Corp.

Description: Gridway Energy Corp. submits tariff filing per 35: Change in Status Notice to be effective 10/21/2011.

Filed Date: 10/21/2011.

Accession Number: 20111021-5096.

Comment Date: 5 p.m. Eastern Time on Monday, November 14, 2011.

Docket Numbers: ER12-164-001.

Applicants: Bishop Hill Energy III LLC.

Description: Bishop Hill Energy III LLC submits tariff filing per 35.17(b): Supplement to Market-Based Rate Application to be effective 12/21/2011.

Filed Date: 10/21/2011.

Accession Number: 20111021-5181.

Comment Date: 5 p.m. Eastern Time on Monday, November 14, 2011.

Docket Numbers: ER12-165-000.

Applicants: Midwest Independent Transmission System Operator, Inc.

Description: Midwest Independent Transmission System Operator, Inc. submits tariff filing per 35.13(a)(2)(iii): G746 GIA to be effective 12/21/2011.

Filed Date: 10/21/2011.

Accession Number: 20111021-5147.

Comment Date: 5 p.m. Eastern Time on Monday, November 14, 2011.

Docket Numbers: ER12-166-000.

Applicants: Kincaid Generation, LLC.

Description: Kincaid Generation, LLC submits tariff filing per 35: Compliance Filing—MBR Tariff Order of Affiliate Restrictions to be effective 10/21/2011.

Filed Date: 10/21/2011.

Accession Number: 20111021-5160.

Comment Date: 5 p.m. Eastern Time on Monday, November 14, 2011.

Docket Numbers: ER12-167-000.

Applicants: PJM Interconnection, LLC.

Description: PJM Interconnection, LLC submits tariff filing per 35.13(a)(2)(iii): DEOK Zone NITSAs—Service Agreements 3100 through 3111 to be effective 1/1/2012.

Filed Date: 10/21/2011.

Accession Number: 20111021-5161.

Comment Date: 5 p.m. Eastern Time on Monday, November 14, 2011.

Docket Numbers: ER12-168-000.

Applicants: State Line Energy, LLC.

Description: State Line Energy, LLC submits tariff filing per 35: Compliance Filing—MBR Tariff Order of Affiliate Restrictions to be effective 10/21/2011.

Filed Date: 10/21/2011.

Accession Number: 20111021-5175.

Comment Date: 5 p.m. Eastern Time on Monday, November 14, 2011.

Docket Numbers: ER12-169-000.

Applicants: WSPP Inc.

Description: WSPP Inc. submits tariff filing per 35.13(a)(2)(iii): Revisions to List of Members of WSPP Agreement to be effective 10/21/2011.

Filed Date: 10/21/2011.

Accession Number: 20111021-5191.

Comment Date: 5 p.m. Eastern Time on Monday, November 14, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 24, 2011.
Nathaniel J. Davis, Sr.,
Deputy Secretary.

[FR Doc. 2011-28192 Filed 10-31-11; 8:45 am]

BILLING CODE 6717-01-P